DEPARTMENT OF THE INTERIOR

Bureau of Safety and Environmental Enforcement

[Docket ID: BSEE-2012-0006; OMB Number 1014-0008]

Information Collection Activities: Well Control and Production Safety Training, Submitted for Office of Management and Budget (OMB) Review; Comment Request

ACTION: 30-day Notice.

SUMMARY: To comply with the Paperwork Reduction Act of 1995 (PRA), we are notifying the public that we have submitted to OMB an information collection request (ICR) to renew approval of the paperwork requirements in the regulations under Subpart O, “Well Control and Production Safety Training.” This notice also provides the public a second opportunity to comment on the revised paperwork burden of these regulatory requirements.

DATES: You must submit comments by October 22, 2012.

ADDRESSES: Submit comments by either fax (202) 395-5806 or email (OIRA_DOCKET@omb.eop.gov) directly to the Office of Information and Regulatory Affairs, OMB, Attention: Desk Officer for the Department of the Interior (1014-0008). Please provide a copy of your comments to BSEE by any of the means below.

• Electronically: go to http://www.regulations.gov. In the entry titled, “Enter Keyword or ID,” enter BSEE-2012-0006 then click search. Follow the instructions to submit public comments and view all related materials. We will post all comments.

• Email nicole.mason@bsee.gov, fax (703) 787-1546, or mail or hand-carry comments to: Department of the Interior; Bureau of Safety and Environmental Enforcement; Regulations Development Branch; Attention: Nicole Mason; 381 Elden Street, HE3313; Herndon, Virginia 20170-4817. Please reference 1014-0008 in your comment and include your name and return address.

FOR FURTHER INFORMATION CONTACT: Nicole Mason, Regulations Development Branch, (703) 787-1605, to request additional information about this ICR. To see a copy of the entire ICR submitted to OMB, go to http://www.reginfo.gov (select Information Collection Review, Currently Under Review).

SUPPLEMENTARY INFORMATION: Title: 30 CFR 250, Subpart O, Well Control and Production Safety Training.

OMB Control Number: 1014-0008.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease, right-of-use and easement, and pipeline right-of-way. Operations in the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 1332(6) of the OCS Lands Act requires that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.” To carry out these responsibilities, BSEE has issued rules governing training requirements for certain personnel working on the OCS at 30 CFR part 250, subpart O, Well Control and Production Safety Training. Responses are mandatory or required to obtain or retain a benefit. No questions of a sensitive nature are asked. The BSEE protects information considered proprietary according to 30 CFR 250.197, Data and information to be made available to the public or for limited inspection, and 30 CFR part 252, Outer Continental Shelf (OCS) Oil and Gas Information Program.

The BSEE will use the information collected under subpart O regulations to ensure that workers on the OCS are properly trained with the necessary skills to perform their jobs in a safe and pollution-free manner. In some instances, BSEE will conduct oral interviews of offshore employees to evaluate the effectiveness of a company's training program. We do the oral interviews to gauge how effectively the companies are implementing their own training program. The BSEE will use the interview form and keep the information internally. This information is necessary to verify training compliance with the requirements.

Frequency: On occasion or annual.

Description of Respondents: Potential respondents comprise Federal oil, gas, or sulphur lessees and/or operators.

Estimated Reporting and Recordkeeping Hour Burden: The estimated annual hour burden for this information collection is a total of 2,919 hours. The following chart details the individual components and estimated hour burdens. In calculating the burdens, we assumed that respondents perform certain requirements in the normal course of their activities. We consider these to be usual and customary and took that into account in estimating the burden.

Citation 30 CFR 250 subpart O | Reporting & recordkeeping requirement | Hour burden | Average number of annual responses | Annual burden hours
1503(a), (c) | Develop training plans. Note: Existing lessees/respondents already have training plans developed. This number reflects development of plans for any new lessees | 105 | 2 | 210
1503(d)(1) | Upon request, provide BSEE with copies of training documentation for personnel involved in well control, deepwater well control, or production safety operations within the past 5 years | 10 | 130 | 1,300
1503(d)(2) | Upon request, provide BSEE with a copy of your training plan | 20 | 30 | 600
1507(b) | Employee oral interview conducted by BSEE | 1 | 500 | 500
1507(c), (d); 1508; 1509 | Written testing conducted by BSEE or authorized representative | Not considered information collection under 5 CFR 1320.3(h)(7). |  | 0
1510(b) | Revise training plan and submit to BSEE | 60 | 5 | 300
250.1500-1510 | General departure or alternative compliance requests not specifically covered elsewhere in subpart O | 3 | 3 | 9
Total Hour Burden |  |  | 670 | 2,919

Estimated Reporting and Recordkeeping Non-Hour Cost Burden: We have identified no non-hour cost burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on April 16, 2012, we published a Federal Register notice (77 FR 22602) announcing that we would submit this ICR to OMB for approval. The notice provided the required 60-day comment period. In addition, § 250.199 provides the OMB control number for the information collection requirements imposed by the 30 CFR 250 regulations. The regulation also informs the public that they may comment at any time on the collections of information and provides the address to which they should send comments. We received one comment in response to the Federal Register notice, but it was not germane to the paperwork burden of this collection.

Public Availability of Comments: Before including your address, phone number, email address, or other personal identifying information in your comment, you should be aware that your entire comment—including your personal identifying information—may be made publicly available at any time. While you can ask us in your comment to withhold your personal identifying information from public review, we cannot guarantee that we will be able to do so.

Acting BSSE Information Collection Clearance Officer: Cheryl Blundon (703) 787-1607.

Dated: July 24, 2012.
Robert W. Middleton,
Deputy Chief, Office of Offshore Regulatory Programs.

[FR Doc. 2012-23387 Filed 9-20-12; 8:45 am]

BILLING CODE 4310-VH-P